DEPARTMENT OF LABOR

Employment and Training Administration

[TA-W-70,406]

Greenville Metals, Inc., Powder Division, Transfer, PA; Notice of Revised Determination on Reconsideration

On October 20, 2009, the Department issued an Affirmative Determination Regarding Application for Reconsideration applicable to workers and former workers of the subject firm. The notice was published in the Federal Register on November 5, 2009 (74 FR 57333).

The initial investigation initiated on May 22, 2009, resulted in a negative determination issued on September 28, 2009, was based on the finding that imports of powdered metals did not contribute importantly to worker separations at the subject firm and no shift in production to a foreign source occurred. The denial notice was published in the Federal Register on November 17, 2009 (74 FR 59255).

On reconsideration, the Department requested additional information from the subject firm's largest customer to determine whether imports of powdered metals negatively impacted employment at the subject firm.

The survey of the major declining customer revealed that the customer directly incorporated powdered metals purchased from the subject firm into powdered core. The investigation further revealed that the largest customer shifted purchases of powdered metals from the subject firm to sources in South East Asia in September 2008. Furthermore, this customer increased its imports of powdered core containing foreign-manufactured powdered metals during the relevant period and this increase in imports contributed importantly to the workers' separation at Greenville Metals, Inc., Powder Division, Transfer, Pennsylvania.

The investigation also revealed that sales, production and employment at the subject firm declined during the relevant period.

Conclusion

After careful review of the additional facts obtained on reconsideration, I determine that workers of Greenville Metals, Inc., Powder Division, Transfer, Pennsylvania, who are engaged in activities related to the production of powdered metals meet the worker group certification criteria under Section 222(a) of the Act, 19 U.S.C. 2272(a). In accordance with Section 223 of the Act, 19. U.S.C. 2273, I make the following certification:

All workers of Greenville Metals, Inc., Powder Division, Transfer, Pennsylvania, who became totally or partially separated from employment on or after May 19, 2008, through two years from the date of this certification, and all workers in the group threatened with total or partial separation from employment on date of certification through two years from the date of certification, are eligible to apply for adjustment assistance under Chapter 2 of Title II of the Trade Act of 1974, as amended.

Signed in Washington, DC, this 24th day of November 2009.
Elliott S. Kushner,
Certifying Officer, Division of Trade Adjustment Assistance.

[FR Doc. E9-29512 Filed 12-10-09; 8:45 am]

BILLING CODE 4510-FN-P